DEPARTMENT OF TRANSPORTATION

Federal Aviation Administration

Agency Information Collection Activities: Requests for Comments; Clearance of Renewed Approval of Information Collection: Small Unmanned Aircraft Registration System (sUAS)

AGENCY: Federal Aviation Administration (FAA), DOT.

ACTION: Notice and request for comments.

SUMMARY: In accordance with the Paperwork Reduction Act of 1995, FAA invites public comments about our intention to request the Office of Management and Budget (OMB) approval to renew an information collection. Aircraft registration is necessary to ensure personal accountability among all users of the national airspace system. Aircraft registration also allows the FAA and law enforcement agencies to address non-compliance by providing the means by which to identify an aircraft's owner and operator. This collection also permits individuals to amend their record in the registration database.

DATES: Written comments should be submitted by January 2, 2018.

ADDRESSES: Send comments identified by docket number FAA-2015-7396 using any of the following methods:

Federal eRulemaking Portal: Go to http://www.regulations.gov and follow the online instructions for sending your comments electronically.

Mail: Send comments to the FAA at the following address: Barbara Hall, Federal Aviation Administration, ASP-110, 10101 Hillwood Parkway, Fort Worth, TX 76177.

FOR FURTHER INFORMATION CONTACT: Claire Barrett by email at: pra@dot.gov; 202-366-8135; Barbara Hall by email at: Barbara.L.Hall@faa.gov; phone: 940-594-5913.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0765.

Title: Small Unmanned Aircraft Registration System (sUAS).

Form Numbers: None.

Type of Review: Renewal of an information collection.

Background: The Secretary of the Department of Transportation (DOT) and the Administrator of the Federal Aviation Administration (FAA) affirmed that all unmanned aircraft are aircraft. As such, in accordance with 49 U.S.C. 44101(a) and as further prescribed in 14 CFR part 47, registration is required prior to operation. See 80 FR 63912, 63913 (October 22, 2015), except for those model aircraft operating exclusively in compliance with section 336 of Public Law 112-95. Aircraft registration is necessary to ensure personal accountability among all users of the national airspace system. Aircraft registration also allows the FAA and law enforcement agencies to address non-compliance by providing the means by which to identify an aircraft's owner and operator.

Subject to certain exceptions discussed below, aircraft must be registered prior to operation. See 49 U.S.C. 44101-44103. Upon registration, the Administrator must issue a certificate of registration to the aircraft owner. See 49 U.S.C. 44103

Registration, however, does not provide the authority to operate. Persons intending to operate a small unmanned aircraft exclusively as model aircraft must operate in compliance with section 336 of Public Law 112-95, and as discussed below, are not required to register. Persons intending to operate their small unmanned aircraft not exclusively in compliance with section 336 must operate in accordance with part 107 or part 91, in accordance with a waiver issued under part 107, in accordance with an exemption issued under 14 CFR part 11 (including those persons operating under an exemption issued pursuant to section 333 of Public Law 112-95), or in conjunction with the issuance of a special airworthiness certificate, and are required to register.

As a result of the May 19, 2017 ruling by the U.S. Court of Appeals for the District of Columbia Circuit (Taylor v. Huerta), the Small UAS Registration and Marking interim final rule was vacated to the extent it applies to model aircraft. Model aircraft must meet the definition and operational requirements provided in section 336 of the FAA Modernization and Reform Act. Owners who are operating exclusively in compliance with section 336 who wish to delete their registration and receive a refund of the registration fee may do so by requesting registration deletion from the FAA, which requires the FAA to collect their payment information.

Respondents: Approximately 1.6 million affected sUAS registrations and deregistrations annually. Additionally, the FAA estimates based on responses so far (700,000) that approximately 0.5% [3,500] of the owners who are registered and are operating in compliance with section 336 will delete their registrations.

Frequency: Information is collected on occasion.

Estimated Average Burden per Response: 5 minutes per response to register, 3 minutes per response de-register, and 2 minutes per response to delete registrations.

Estimated Total Annual Burden: About 135,000 hours for registration and deregistration, and about 117 hours for registration deletion.

Issued in Washington, DC, on October 26, 2017.
Barbara L. Hall,
FAA Information Collection Clearance Officer, Performance, Policy, and Records Management Branch, ASP-110.

[FR Doc. 2017-23893 Filed 11-2-17; 8:45 am]

BILLING CODE 4910-13-P